DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Cloning of a Genomic DNA Fragment Containing the Guinea Pig CXCR1 Gene, a Specific Receptor for Guinea Pig Interleukin-8

Teizo Yoshimura (NCI)

HHS Reference No. E-242-2005/0—Research Tool

Licensing Contact: Jesse S. Kindra; (301) 435-5559; kindraj@mail.nih.gov.

The present invention relates to cloning of a genomic DNA fragment containing the guinea pig CXCR1 gene, a specific receptor for guinea pig interleukin-8 (IL-8).

More specifically, the IL-8-CXCR1 axis is a major chemokine-chemokine receptor system that regulates the recruitment of neutrophils into sites of inflammation. In this invention, the inventors cloned a genomic DNA clone containing the gene for guinea pig IL-8 receptor CXCR1. Mice and rats are the most commonly used small animals to examine the efficacy of drugs developed for human use. However, neither IL-8 nor CXCR1, a specific receptor for IL-8, is present in these animals, making it impossible to use them as a model to test the effects or IL-8 or CXCR1 antagonists. Identification of CXCR1, along with IL-8, in the guinea pig may enable evaluation of the in vivo effects of the antagonists.

In addition to licensing, the technology is available for further development through collaborative research opportunities with the inventors.

Anti-CD30 Antibodies That Bind To Intact CD30 but not to Soluble CD30

Satoshi Nagata and Ira Pastan (NCI)

U.S. Provisional Application No. 60/681,929 filed 16 May 2005 (HHS Reference No. E-208-2005/0-US-01),

Licensing Contact: Jesse S. Kindra; (301) 435-5559; kindraj@mail.nih.gov.

Human CD30 is a promising target for cancer immunotherapy since CD30 is highly expressed in Hodgkin's disease and anaplastic large-cell lymphoma. However, soluble CD30, the extracellular domain of CD30 that is shed from the cells, can reduce the effects of CD30-targeting agents by competitive binding.

This invention is the first successful attempt of producing CD30-targeting agents without the disadvantage of the reducing effects caused by soluble CD30. More specifically, two (2) epitopes on membrane-associated CD30 have been identified that are missing on soluble CD30. These epitopes are potentially superior targets for immunotherapy since targeting the epitopes should be free from the competitive effects of soluble CD30. Accordingly, the antibodies described in this invention may be used as targeting reagents for cancer therapy.

In addition to licensing, the technology is available for further development through collaborative research opportunities with the inventors.

Isolation, Cloning and Characterization of New Adeno-Associated Virus (AAV) Serotypes

Michael Schmidt et al. (NIDCR)

U.S. Provisional Application No. 60/676,604 filed 29 April 2005 (HHS Reference No. E-179-2005/0-US-01)

Licensing Contact: Jesse S. Kindra; (301) 435-5559; kindraj@mail.nih.gov.

This invention relates to new adeno-associated viruses (AAV), vectors and particles derived therefrom and also provides methods for delivering specific nucleic acids to cells using the AAV vectors and particles. Vectors based on these new AAV serotypes may have a different host range and different immunological properties, thus allowing for more efficient transduction in certain cell types. In addition, characterization of these new serotypes will aid in identifying viral elements required for tissue tropism.

More specifically, in order to identify and characterize novel AAV isolates for development as gene therapy vectors, the inventors screened approximately one hundred (100) viral stocks. The inventors cloned and sequenced the genomes of AAVs found in twelve (12) simian adenovirus isolates and determined that the AAVs were novel. Ten (10) of these isolates had high similarity to AAV1 and AAV6 (>98%). Despite the high homology to AAV6, these novel AAVs demonstrated distinct cell tropisms and reactivity towards a panel of lectins, suggesting that they may use a distinct entry pathway. Therefore, these novel AAVs may be useful for gene therapy applications.

In addition to licensing, the technology is available for further development through collaborative research opportunities with the inventors.

Anti-Mesothelin Antibodies Useful for Immunological Assays

Ira H. Pastan and Masanori Onda (NCI)

U.S. Provisional Application No. 60/681,104 filed 12 May 2005 (HHS Reference No. E-015-2005/0-US-01),

Licensing Contact: Jesse S. Kindra; (301) 435-5559; kindraj@mail.nih.gov.

This invention provides antibodies that have a surprisingly good combination of affinity for mesothelin and ability to be used in immunological assays for detecting the presence of mesothelin in biological samples. The invention further relates to methods of using antibodies and kits comprising them. The antibodies can also be used to target toxins and other agents to cells expressing mesothelin, and can be used in methods and medicaments for inhibiting the growth of such cells.

In addition to licensing, the technology is available for further development through collaborative research opportunities with the inventors.

Methods for the Identification and Use of Compounds Suitable for the Treatment of Drug Resistant Cells

Gergely Szakacs et al. (NCI)

HHS Reference No. E-075-2004/2-PCT-01 filed 17 Jun 2005

Licensing Contact: Jesse S. Kindra; (301) 435-5559; kindraj@mail.nih.gov.

There is an important need to overcome cancer multiple drug resistance (MDR). ATP-binding cassette (ABC) transporters are a family of transporter proteins that contribute to drug resistance via ATP-dependent drug efflux pumps. Accordingly, based on the expression profile of 48 ABC transporters in sixty (60) cell lines, the present invention provides a method to identify (1) drugs that retain action in cells expressing MDR proteins, (2) compounds that reduce MDR by interfering with the efflux pumps. In addition, the invention describes a method to identify compounds whose antiproliferative effect is potentiated by the ABCB1/MDR1 transporter. These compounds might avoid the well-documented side-effects observed in clinical trials of “classical” MDR1 inhibitors and may serve as leads for development of novel anti-cancer agents to treat resistant disease.

Dated: July 15, 2005.
Steven M. Ferguson,
Director, Division of Technology Development and Transfer, Office of Technology Transfer, National Institutes of Health.

[FR Doc. 05-14499 Filed 7-21-05; 8:45 am]

BILLING CODE 4140-01-P